DEPARTMENT OF JUSTICE

Notice of Lodging of Proposed Consent Decree Modification

On April 24, 2024, the Department of Justice lodged a proposed Consent Decree Modification (“Modification”) with the United States District Court for the Eastern District of Michigan in the lawsuit entitled United States v. Dow Silicones Corp. Civ. A. No. 19-11880.

The proposed Modification amends the Revised Consent Decree entered by the Court on January 24, 2020, which resolved Plaintiff's claims that Defendant violated various federal environmental statutes including the Clean Water Act at its chemical manufacturing plant located in Midland, Michigan. The proposed Modification extends a deadline in the Revised Consent Decree for Defendant's implementation of a Stormwater Capacity and Pollutant Evaluation from January 24, 2023 to January 24, 2026. The proposed Modification also includes requirements to mitigate any environmental harm associated with the extension of the deadline.

The publication of this notice opens a period for public comment on the proposed Modification. Comments should be addressed to the Assistant Attorney General, Environment and Natural Resources Division, and should refer to United States v. Dow Silicones Corp. Civ. A. No. 19-11880 and DJ No. 90-5-2-1-10469. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Modification may be examined and downloaded at this Justice Department website: http://www.usdoj.gov/enrd/Consent_Decrees.html. If you require assistance accessing the proposed Modification, you may request assistance by email or by mail to the addresses provided above for submitting comments.

Laura Thoms,
Assistant Section Chief, Environmental Enforcement Section, Environment and Natural Resources Division.

[FR Doc. 2024-09547 Filed 5-1-24; 8:45 am]

BILLING CODE 4410-15-P